Title 3—

The President

Proclamation 9027 of September 30, 2013

National Arts and Humanities Month, 2013

By the President of the United States of America

A Proclamation

Throughout our history, America has advanced not only because of our people's will or our leaders' vision, but also because of paintings and poems, stories and songs, dramas and dances. These works open our minds and nourish our souls, helping us understand what it means to be human and what it means to be American. During National Arts and Humanities Month, we celebrate the rich heritage of arts and humanities that has long been at the core of our country's story.

Our history is a testament to the boundless capacity of the arts and humanities to shape our views of democracy, freedom, and tolerance. Each of us knows what it is like to have our beliefs changed by a writer's perspective, our understanding deepened by a historian's insight, or our waning spirit lifted by a singer's voice. These are some of the most striking and memorable moments in our lives, and they reflect lasting truths—that the arts and humanities speak to everyone and that in the great arsenal of progress, the human imagination is our most powerful tool.

Ensuring our children and our grandchildren can share these same experiences and hone their own talents is essential to our Nation's future. Somewhere in America, the next great author is wrestling with a sentence in her first short story, and the next great artist is doodling in the pages of his notebook. We need these young people to succeed as much as we need our next generation of engineers and scientists to succeed. And that is why my Administration remains dedicated to strengthening initiatives that not only provide young people with the nurturing that will help their talents grow, but also the skills to think critically and creatively throughout their lives.

This month, we pay tribute to the indelible ways the arts and humanities have shaped our Union. Let us encourage future generations to carry this tradition forward. And as we do so, let us celebrate the power of artistic expression to bridge our differences and reveal our common heritage.

NOW, THEREFORE, I, BARACK OBAMA, President of the United States of America, by virtue of the authority vested in me by the Constitution and the laws of the United States, do hereby proclaim October 2013 as National Arts and Humanities Month. I call upon the people of the United States to join together in observing this month with appropriate ceremonies, activities, and programs to celebrate the arts and the humanities in America.

IN WITNESS WHEREOF, I have hereunto set my hand this thirtieth day of September, in the year of our Lord two thousand thirteen, and of the Independence of the United States of America the two hundred and thirty-eighth.

[FR Doc. 2013-24381

Filed 10-3-13; 8:45 am]

Billing code 3295-F4